NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995, Pub. L. 104-13. This is the second notice for public comment; the first was published in the Federal Register at 70 FR 75227, and one comment was received. NSF is forwarding the proposed renewal submission to the Office of Management and Budget (OMB) for clearance simultaneously with the publication of this second notice. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725-17th Street, NW., Room 10235, Washington, DC 20503, and to Suzanne H. Plimpton, Reports Clearance Officer, National Science Foundation, 4201 Wilson Boulevard, Suite 295, Arlington, Virginia 22230 or send e-mail to splimpto@nsf.gov. Comments regarding these information collections are best assured of having their full effect if received within 30 days of this notification. Copies of the submission(s) may be obtained by calling (703) 292-7556.

NSF may not conduct or sponsor a collection of information unless the collection of information displays a currently valid OMB control number and the agency informs potential persons who are to respond to the collection of information that such persons are not required to respond to the collection of information unless it displays a currently valid OMB control number.

SUPPLEMENTARY INFORMATION: Comment: On December 19, 2005, we published in the Federal Register (70 FR 75227) a 60-day notice of our intent to request renewal of this information collection authority from OMB. In that notice, we solicited public comments for 60 days ending February 17, 2006. One comment was received in response to the public notice. The comment came from B. Sachau of Florham Park, NJ, via e-mail on December 19, 2005. Ms. Sachau objected to the information collection but had no specific suggestions for altering the data collection plans other than to discontinue them entirely.

Response: NSF believes that because the comment does not pertain to the collection of information on the required forms for which NSF is seeking OMB approval, NSF is proceeding with the clearance request.

Title of Collection: Academic Research and Development Survey Expenditures at Universities and Colleges, FY 2006 through FY 2008; OMB Control Number 3145-0100.

Proposed Renewal Project: Separately budgeted current fund expenditures on research and development in the sciences and engineering performed by universities and colleges and federally funded research and development centers—A web survey, the Survey of Scientific and Engineering Expenditures at Universities and Colleges, originated in fiscal year (FY) 1954 and has been conducted annually since FY 1972. The survey is the academic expenditure component of the NSF statistical program that seeks to provide a “central clearinghouse for the collection, interpretation, and analysis of data on the availability of, and the current and projected need for, scientific and technical resources in the United States, and to provide a source of information for policy formulation by other agencies of the Federal government,” as mandated in the National Science Foundation Act of 1950.

Use of the Information: The proposed project will continue the current survey cycle for three years. The Academic R&D Survey will be a census of the full population of an expected 656 institutions (619 universities of colleges plus 37 federally funded research and development centers—FFRDCs) for academic years FY 2006 through FY 2008. These institutions account for over 95 percent of the Nation's academic R&D funds. The survey has provided continuity of statistics on R&D expenditures by source of funds and by science & engineering (S&E) field, with separate data requested on current fund expenditures for research equipment by S&E field. Further breakdowns are collected on passed through funds to subrecipients by field of science and engineering from specific Federal Government agency sources. Information on R&D for non-S&E fields is also requested. Data are published in NSF's annual publication series Academic Science and Engineering R&D Expenditures and are available electronically on the World Wide Web.

The survey is a fully automated web data collection effort and is handled primarily by the administrators at the Institutional Research Offices. To minimize burden, institutions are provided with an abundance of guidance and help menus on the web, in addition to printing and responding via paper copy if necessary. Each record is preloaded with the institutions 2 previous year's data and a complete program for editing and trend checking. Response to this voluntary survey in FY 2004 was 94.0 percent. Burden estimates are as follows.¹

¹ Average burden hours for institutions responding to burden item.

Total number of institutions | Doctorate-granting burden hours | Masters-granting burden hours | Bachelors degree burden hours | FFRDC's burden hours
FY 1999 480 | 20.8 | 13.0 | 7.5 | 9.4
FY 2000 700 | 21.0 | 12.0 | 10.5 | 9.2
FY 2001 625 | 30.2 | 11.9 | 9.0 | 12.1
FY 2002 625 | 28.7 | 14.9 | 12.2 | 4.5

Dated: February 14, 2006.
Suzanne H. Plimpton,
Reports Clearance Officer, National Science Foundation.

[FR Doc. 06-1517 Filed 2-16-06; 8:45 am]

BILLING CODE 7555-01-M